DEPARTMENT OF JUSTICE

Notice of Lodging of Consent Decree Under the Residential Lead-Based Paint Hazard Reduction Act

Notice is hereby given that on January 28, 2008 a proposed Consent Decree in United States v. VIP Properties, LLC, George L. and Toni Dufour Living Trust, Edward Anderson d/b/a Edric Associates, 50th Penn, LLC, David C. Brown, Hillsboro Homes, LLC, Richard O. Hanousek, Victor Yalom, Bisanz Family Limited and Jersey Company, Civil Action No. 08-CV-246 (PJS/RLE) was lodged with the United States District Court for the District of Minnesota.

The consent decree settles claims against the owners and management company of approximately 10 residential properties containing approximately 292 units located in the area of Minneapolis and St. Paul, Minnesota. The claims were brought on behalf of the Environmental Protection Agency (“U.S. EPA”) and the Department of Housing and Urban Development (“HUD”) under the Residential Lead-Based Paint Hazard Reduction Act, 42 U.S.C. 4851 et seq. (“Lead Hazard Reduction Act”). The United States alleged in the complaint that the defendant failed to make one or more of the disclosures or to complete one or more of the disclosure activities required by the Lead Hazard Reduction Act.

Under the Consent Decree, the Defendants will certify that they are complying with residential lead paint notification requirements. They also have agreed to hire contractors to complete risk assessments and have agreed to abate all lead-based paint hazards identified in all of the residential properties managed by VIP. Defendants will pay a civil penalty of $7,500. In addition, Defendants have agreed to perform a child health improvement project (“CHIP”) designed to reduce incidences of childhood lead poisoning in the Twin Cities metropolitan area where Defendants' housing properties are located at a cost of $50,000. Specifically, Defendants will work with the St. Paul Health Department and a not-for-profit community development organization to replace all of the windows in at least 35 properties in very low income, owner-occupied homes with children under the age of 6 in the Thomasdale, Rice Street, and Lower East Side of St. Paul neighborhoods.

The Department of Justice will receive for a period of thirty (30) days from the date of this publication comments relating to the Proposed Consent Decree. Comments should be addressed to the Assistant Attorney General, Environment and Natural Resources Division, and either e-mailed to pubcomment-ees.enrd@usdoj.gov or mailed to U.S. Department of Justice, Washington, DC 20044-7611 P.O. Box 7611, U.S. Department of Justice, Washington, DC 20044-7611, and should refer to United States v. VIP Properties, et al., D.J. Ref. # 90-5-2-1-09280.

The Proposed Consent Decree may be examined at the Department of Housing and Urban Development, Office of General Counsel, 451 7th St. NW., Room 9262, Washington, DC 20410; at the office of the United States Attorney for the District of Minnesota, 600 U.S. Courthouse, 300 South Fourth Street, Minneapolis, Minnesota, 55415 (Attn. Assistant United States Attorney Gregory G. Brooker); and at U.S. EPA Region 5, 77 W. Jackson Blvd., Chicago, IL 60604. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.75 (25 cents per page reproduction cost) payable to the U.S. Treasury or, if by e-mail or fax, forward a check in that amount to the Consent Decree Library at the stated address.

Karen Dworkin,
Assistant Chief, Environmental Enforcement Section, Environment and Natural Resources Division.

[FR Doc. E8-2579 Filed 2-12-08; 8:45 am]

BILLING CODE 4410-15-P